DEPARTMENT OF HEALTH AND HUMAN SERVICES

Office of the Secretary

Delegation of Authority

Notice is hereby given that I have delegated to the Commissioner of Food and Drugs the authorities vested in the Secretary of Health and Human Services under Section 3 of the Comprehensive Smokeless Tobacco Health Education Act of 1986 (15 U.S.C. 4402) (as amended by the Family Smoking Prevention and Tobacco Control Act), as amended. These authorities may be redelegated.

These authorities shall be exercised under the Department's policy on regulations and the existing delegation of authority to approve and issue regulations. In addition, I hereby ratify and affirm any actions taken by the Commissioner of Food and Drugs, or other FDA officials, which involved the exercise of the authorities delegated herein prior to the effective date of this delegation. This delegation is effective upon signature.

(Authority: Section 6 of the Reorganization Plan No. 1 of 1953, Section 2 of the Reorganization Plan No. 3 of 1966, and 5 U.S.C. 301.)

Dated: April 14, 2011.
Kathleen Sebelius,
Secretary of Health and Human Services.

[FR Doc. 2011-9667 Filed 4-20-11; 8:45 am]

BILLING CODE 4160-01-P